DEPARTMENT OF COMMERCE

International Trade Administration

[A-201-827]

Certain Large Diameter Carbon and Alloy Seamless Standard, Line and Pressure Pipe from Mexico: Extension of Preliminary Results of Antidumping Duty Administrative Review

AGENCY: Import Administration, International Trade Administration, Department of Commerce.

EFFECTIVE DATE: May 7, 2003.

FOR FURTHER INFORMATION CONTACT: FOR FURTHER INFORMATION CONTACT: Mark Young or George McMahon at (202) 482-6397 or (202) 482-1167, respectively, Office of AD/CVD Enforcement VI, Group II, Import Administration, International Trade Administration, U.S. Department of Commerce, 14th Street and Constitution Ave, NW, Washington, DC 20230.

TIME LIMITS:

Statutory Time Limits

Section 751(a)(3)(A) of the Tariff Act of 1930, as amended (“the Act”), requires the Department of Commerce (the Department) to issue the preliminary results of a review within 245 days after the last day of the anniversary month of an order or finding for which a review is requested, and the final results within 120 days after the date on which the preliminary results are published. However, if it is not practicable to complete the review within that time period, section 751(a)(3)(A) of the Act allows the Department to extend the time limit for the preliminary results to a maximum of 365 days and for the final results to 180 days (or 300 days if the Department does not extend the time limit for the preliminary results) from the date of the publication of the preliminary results.

Background

On August 6, 2002, the Department of Commerce (“the Department”) published in the Federal Register the notice of “Opportunity to Request Administrative Review” of the antidumping duty order on certain large diameter carbon and alloy seamless standard, line, and pressure pipe (“SLP”) from Mexico, for the period August 1, 2001 through July 31, 2002 (67 FR 50856). On August 30, 2002, we received a request from petitioner¹ to review Tubos de Acero de Mexico, S.A. (“TAMSA”). On September 25, 2002, we published the notice of initiation of this antidumping duty administrative review with respect to TAMSA. See Initiation of Antidumping and Countervailing Duty Administrative Reviews, Requests for Revocation in Part and Deferral of Administrative Reviews, 67 FR 60210 (September 25, 2002). On October 25, 2002, we received a request from petitioner to determine whether antidumping duties have been absorbed during the period of review by respondent TAMSA. TAMSA submitted a November 1, 2002 letter certifying that neither TAMSA, nor its U.S. affiliate, Siderca Corporation, directly or indirectly, exported or sold for consumption in the United States any subject merchandise during the period of review (“POR”). The preliminary results were originally due on May 5, 2003.

¹ The petitioner is United States Steel Corporation.

Extension of Preliminary Results of Review

After analyzing Customs information for the period of review, we preliminarily find that TAMSA is a non-shipper. Therefore, we have issued a memorandum in which we have expressed our intent to rescind this review. See Memorandum from Eric Greynolds to Melissa G. Skinner, regarding the Second Administrative Review of the Antidumping Duty Order on Certain Large Diameter Carbon and Alloy Seamless Standard, Line and Pressure Pipe from Mexico, dated April 30, 2003.

To afford interested parties time to comment on the Department's intent to rescind this review, and because it would be impracticable to issue a preliminary determination prior to receiving those comments, we are postponing the preliminary determination by 60 days, until July 7, 2003, in accordance with 751(a)(3)(A) of the Act. See Decision Memorandum from Melissa Skinner to Holly A. Kuga, dated May 1, 2003, which is on file in the Central Records Unit, B-099 of the main Commerce Building. We intend to issue the final results no later than 120 days after the publication of the notice of preliminary results of this review.

Dated: May 1, 2003.
Holly A. Kuga,
Acting Deputy Assistant Secretary for Import Administration.

[FR Doc. 03-11354 Filed 5-6-03; 8:45 am]

BILLING CODE 3510-DS-S